NUCLEAR REGULATORY COMMISSION

[NRC-2013-0264]

Standard Format and Content for a License Application for an Independent Spent Fuel Storage Installation or a Monitored Retrievable Storage Facility

AGENCY: Nuclear Regulatory Commission.

ACTION: Draft regulatory guide; request for comment.

SUMMARY: The U.S. Nuclear Regulatory Commission (NRC) is issuing for public comment draft regulatory guide (DG), DG-3042, “Standard Format and Content for a License Application for an Independent Spent Fuel Storage Installation or a Monitored Retrievable Storage Facility.” This draft regulatory guide is proposed revision 2 of Regulatory Guide 3.50, which provides a format that the NRC considers acceptable for submitting the information for license applications to store spent nuclear fuel, high-level radioactive waste, and/or reactor-related Greater than Class C waste.

DATES: Submit comments by January 24, 2014. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specific subject):

• Federal rulemaking Web site: Go to http://www.regulations.gov and search for Docket ID NRC-2013-0264. Address questions about NRC dockets to Carol Gallagher; telephone: 301-287-3422; email: Carol.Gallagher@nrc.gov. For technical questions, contact the individual(s) listed in the FOR FURTHER INFORMATION CONTACT section of this document.

• Mail comments to: Cindy Bladey, Chief, Rules, Announcements, and Directives Branch (RADB), Office of Administration, Mail Stop: 3WFN- 06A-A44M, U.S. Nuclear Regulatory Commission, Washington, DC 20555-0001.

For additional direction on accessing information and submitting comments, see “Accessing Information and Submitting Comments” in the SUPPLEMENTARY INFORMATION section of this document.

FOR FURTHER INFORMATION CONTACT: Jazel Parks, Regulatory Guide Development Branch, Division of Engineering, Office of Nuclear Regulatory Research, U.S. Nuclear Regulatory Research, telephone 301-251-7690, email: Jazel.Parks@nrc.gov or Josh Goshen, Licensing Branch, Division of Spent Fuel Storage and Transportation, Office of Nuclear Material Safety and Safeguards, U.S. Nuclear Regulatory Commission, Washington, DC 20555-0001, telephone: 301-287-9250, email: Josh.Goshen@nrc.gov.

SUPPLEMENTARY INFORMATION:

I. Accessing Information and Submitting Comments

A. Accessing Information

Please refer to Docket ID NRC-2013-0264 when contacting the NRC about the availability of information regarding this document. You may access information related to this document, which the NRC possesses and is publicly available, by the following methods:

• Federal Rulemaking Web site: Go to http://www.regulations.gov and search for Docket ID NRC-2013-0264.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically under ADAMS Accession Number ML12087A035. The regulatory analysis may be found in ADAMS under Accession No. ML12087A039.

Regulatory guides are not copyrighted, and NRC approval is not required to reproduce them.

• NRC's PDR: You may examine and purchase copies of public documents at the NRC's PDR, Room O1-F21, One White Flint North, 11555 Rockville Pike, Rockville, Maryland 20852.

B. Submitting Comments

Please include Docket ID NRC-2013-0264 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

The NRC is issuing for public comment a draft guide in the NRC's “Regulatory Guide” series. This series was developed to describe and make available to the public such information as methods that are acceptable to the NRC staff for implementing specific parts of the NRC's regulations, techniques that the staff uses in evaluating specific problems or postulated accidents, and data that the staff needs in its review of applications for permits and licenses.

This regulatory guide provides a format that the NRC considers acceptable for submitting the information for license applications to store spent nuclear fuel, high-level radioactive waste, and/or reactor-related Greater than Class C (GTCC) waste. Part 72 of Title 10 of the Code of Federal Regulations (10 CFR), “Licensing Requirements for the Independent Storage of Spent Nuclear Fuel, High-Level Radioactive Waste, and Reactor-Related Greater Than Class C Waste” (Ref. 1), Subpart B, “License Application, Form, and Contents,” specifies the information that must be in an application for a license to store spent nuclear fuel, high-level radioactive waste, and/or power-reactor-related GTCC waste in an independent spent fuel storage installation (ISFSI) or to store spent nuclear fuel, high-level radioactive waste, and GTCC waste in a monitored retrievable storage (MRS) facility.

The draft regulatory guide, entitled “Standard Format and Content for a License Application for an Independent Spent Fuel Storage Installation or a Monitored Retrievable Storage Facility,” is temporarily identified by its task number, DG-3042. The DG-3042 is proposed revision 2 of Regulatory Guide 3.50, dated September 1989.

This revision to RG 3.50 (Revision 2) was issued to conform to the format and content requirements in 10 CFR part 72, which has been revised several times since Revision 1 was issued, and to update guidance on electronic submissions of applications. In addition, Revision 2 includes editorial changes to improve clarity.

II. Backfitting and Issue Finality

This draft regulatory guide, if finalized, will provide guidance on one possible means for meeting NRC's regulatory requirements in 10 CFR 72.22-34 regarding the format and content for license applications for an ISFSI or MRS. This draft regulatory guide may be applied to license applications for ISFSIs and MRSs docketed by the NRC as of the date of issuance of the final regulatory guide, as well as future applications for such licenses submitted after the issuance of the regulatory guide. This regulatory guide does not apply to current license applications for ISFSIs, and there are no current applications for an MRS.

This draft regulatory guide, if finalized, would not constitute backfitting as defined in 10 CFR 72.62(a). The regulatory guide applies only to future applicants, who are not within the scope of entities protected by § 72.62. In addition, the subject matter of this regulatory guide does not concern matters dealing with either the structures, systems and components of an ISFSI or MRS, or the procedures or organization for operating an ISFSI or MRS. Therefore, the matters addressed in this draft regulatory guide are not within the scope of the backfitting provisions in § 72.62(a)(1) or (2).

This draft regulatory guide, if finalized, would not apply to entities protected by issue finality provisions in 10 CFR part 52 with respect to the matters addressed in this regulatory guide. Although part 52 combined license applicants and holders may apply for specific ISFSI licenses, the guidance in this regulatory guide is directed to ISFSI applicants and does not make a distinction between, and presents no more onerous guidance for, ISFSI applicants who are also combined license applicants or holders, than for ISFSI applicants who are not combined license applicants and holders.

Accordingly, the NRC concludes that this draft regulatory guide, if finalized, would not be inconsistent with any part 52 issue finality provision.

Dated at Rockville, Maryland, this 18th day of November, 2013.
For the Nuclear Regulatory Commission.
Thomas H. Boyce,
Chief, Regulatory Guide Development Branch, Division of Engineering, Office of Nuclear Regulatory Research.

[FR Doc. 2013-29163 Filed 12-5-13; 8:45 am]

BILLING CODE 7590-01-P